DEPARTMENT OF LABOR

Mine Safety and Health Administration

[OMB Control No. 1219-0142]

Proposed Extension of Existing Information Collection; Sealing of Abandoned Areas

AGENCY: Mine Safety and Health Administration.

ACTION: Notice of request for public comments.

SUMMARY: The Department of Labor, as part of its continuing effort to reduce paperwork and respondent burden, conducts a pre-clearance consultation program to provide the general public and Federal agencies with an opportunity to comment on proposed and continuing collections of information in accordance with the Paperwork Reduction Act of 1995 [44 U.S.C. 3506(c)(2)(A)]. This program helps to assure that requested data can be provided in the desired format, reporting burden (time and financial resources) is minimized, collection instruments are clearly understood, and the impact of collection requirements on respondents can be properly assessed. Currently, the Mine Safety and Health Administration (MSHA) is soliciting comments concerning the extension of the information collection for 30 CFR 75.335 Seal strengths, design applications, and installation; 75.336 Sampling and monitoring requirements; 75.337 Construction and repair of seals; and 75.338 Training.

DATES: All comments must be received or postmarked by midnight Eastern Standard Time on April 18, 2011.

ADDRESSES: Comments must clearly be identified with the rule title and may be submitted to MSHA by any of the following methods:

(1) Electronic mail: zzMSHA-Comments@dol.gov.

(2) Facsimile: 202-693-9441.

(3) Regular Mail: MSHA, Office of Standards, Regulations, and Variances, 1100 Wilson Boulevard, Room 2350, Arlington, VA 22209-3939.

(4) Hand Delivery or Courier: MSHA, Office of Standards, Regulations, and Variances, 1100 Wilson Boulevard, Room 2350, Arlington, VA 22209-3939. Sign in at the receptionist's desk on the 21st floor.

FOR FURTHER INFORMATION CONTACT: Mario Distasio, Chief of the Economic Analysis Division, Office of Standards, Regulations, and Variances, MSHA, at distasio.mario@dol.gov (e-mail), 202-693-9445 (voice mail), or 202-693-9441 (facsimile).

SUPPLEMENTARY INFORMATION:

I. Background

Adequate seal design and construction and monitoring of the atmosphere behind seals are crucial requirements to prevent potentially explosive or toxic gases from migrating into the active working areas of underground coal mines. Seals must be designed to withstand elevated pressures from explosions, and the atmosphere behind the seal must be monitored to prevent methane from reaching the explosive range. Miners rely on seals to protect them from the hazardous and explosive atmosphere within the sealed area. Records collected under these standards help assure that the construction and maintenance of seals are done correctly; certified persons conducting sampling in sealed areas are adequately trained; and the sampling results are recorded. The respondents for the paperwork provisions of these standards are coal mine operators.

II. Desired Focus of Comments

MSHA is particularly interested in comments that:

• Evaluate whether the collection of information is necessary for the proper performance of the functions of the agency, including whether the information has practical utility;

• Evaluate the accuracy of the agency's estimate of the burden of the collection of information, including the validity of the methodology and assumptions used;

• Enhance the quality, utility, and clarity of the information to be collected; and

• Minimize the burden of the collection of information on those who are to respond, including the use of appropriate automated, electronic, mechanical, or other technological collection techniques or other forms of information technology, e.g., permitting electronic submissions of responses.

A copy of the information collection request can be obtained by contacting the person listed in the FOR FURTHER INFORMATION CONTACT section of this notice, or viewed on the Internet at http://www.msha.gov and by selecting FedReg. Docs under Rules & Regs on the right side of the screen. On the next screen, select Information Collection Requests to view documents supporting this Federal Register notice.

III. Current Actions

This notice contains the request for an extension of the existing collection of information in 30 CFR 75.335 Seal strengths, design applications, and installation; 75.336 Sampling and monitoring requirements; 75.337 Construction and repair of seals; and 75.338 Training. MSHA does not intend to publish the results from this information collection and is not seeking approval to either display or not display the expiration date for the OMB approval of this information collection.

There are no certification exceptions identified with this information collection and the collection of this information does not employ statistical methods.

Type of Review: Three-year update.

Agency: Mine Safety and Health Administration.

OMB Number: 1219-0142.

Frequency: As necessary.

Affected Public: Business or other for-profit.

Cost to Federal Government: Minimal cost because records are reviewed during the course of inspections.

Total Burden Respondents: 361 per year.

Total Number of Responses: 90,360 per year.

Total Burden Hours: 9,057 hours.

Total Hour Burden Cost (operating/maintaining): $750,730 per year.

Comments submitted in response to this notice will be summarized and included in the request for Office of Management and Budget approval of the information collection request; they will also become a matter of public record.

Dated: February 11, 2011.
Roslyn B. Fontaine,
Acting Director, Office of Standards, Regulations and Variances, Certifying Officer.

[FR Doc. 2011-3594 Filed 2-16-11; 8:45 am]

BILLING CODE 4510-43-P